NUCLEAR REGULATORY COMMISSION

[Docket No. 52-017; NRC-2008-0149]

Virginia Electric and Power Company D/B/A Dominion Virginia Power, North Anna Power Station, Unit 3

AGENCY: Nuclear Regulatory Commission.

ACTION: Intent to prepare a supplemental environmental impact statement; withdrawal.

SUMMARY: The U.S. Nuclear Regulatory Commission (NRC) is withdrawing the intent to prepare a supplemental environmental impact statement (SEIS) published in the Federal Register on February 7, 2011. The purpose of the SEIS the NRC had intended to prepare was to address any impacts that would have resulted from a change in the reactor technology referenced in the North Anna Power Station (NAPS) Unit 3 Combined License (COL) application. The intent to prepare a SEIS is being withdrawn because of the applicant's decision to return to the original reactor design, as referenced and evaluated in an earlier SEIS for the NAPS.

DATES: The effective date of the withdrawal of the intent to prepare a supplemental environmental impact statement is January 29, 2015.

ADDRESSES: Please refer to Docket ID NRC-2008-0149 when contacting the NRC about the availability of information regarding this document. You may obtain publicly-available information related to this document using any of the following methods:

• Federal Rulemaking Web Site: Go to http://www.regulations.gov and search for Docket ID NRC-2008-0149. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

• Project Web Site: In addition, project documents can be accessed online at the North Anna Unit 3 COL specific Web page at http://www.nrc.gov/reactors/new-reactors/col/north-anna.html.

• Other: The following libraries have agreed to maintain documents related to the North Anna Unit 3 Combined License Review for public inspection: Jefferson-Madison Regional Library in Mineral, Virginia; Salem Church Library in Fredericksburg, Virginia; Pamunke Regional Library in Hanover, Virginia; C. Melvin Snow Memorial Library in Spotsylvania, Virginia; and Orange County Library in Orange, Virginia.

FOR FURTHER INFORMATION CONTACT: Tamsen Dozier, Office of New Reactors, U.S. Nuclear Regulatory Commission, Washington, DC 20555-0001; telephone: 301-415-2272, email: Tamsen.Dozier@nrc.gov.

SUPPLEMENTARY INFORMATION: The decision to prepare a SEIS was based on Dominion's decision to change the referenced reactor technology from the Economic Simplified Boiling Water Reactor (ESBWR) design, to the U.S. Advanced Pressurized Water Reactor (US-APWR). This change in reactor technology by Dominion occurred after the NRC staff completed its environmental review of the COL application, which is documented in NUREG-1917, “Supplemental Environmental Impact Statement for the Combined License for North Anna Power Station, Unit 3” (COL SEIS). On February 7, 2011 (76 FR 6638), the NRC published a notice of intent to prepare a supplemental EIS and conduct scoping in conjunction with its review of a revised application submitted by Virginia Electric Power Company d/b/a Dominion Virginia Power (Dominion) for a COL to build and operate a new reactor at its NAPS site located in Louisa County, Virginia. The purpose of the February 2011 notice was to inform the public that the NRC staff intended to prepare a supplement to the COL SEIS pertaining to the change in the reactor design. In the proposed SEIS for the US-APWR technology, the staff intended to identify any significant changes to the previous evaluation of environmental impacts that could arise from the applicant's switch to this reactor design.

By letter dated April 25, 2013 (ADAMS Accession No. ML13120A016), Dominion notified the NRC that it planned to revert to the ESBWR technology for its North Anna COL application. As the purpose for preparing the US-APWR SEIS no longer exists, this notice is to inform the public that the staff will not be preparing a SEIS to evaluate the change in impacts that could occur from a different reactor design.

Dominion completed revisions to its COL application, including the necessary revisions to its environmental report (ER), to once again reference the ESBWR and submitted the revised application to the NRC by letter dated December 18, 2013. The revised ER is available in ADAMS under Accession No. ML14007A643. The ESBWR was certified by the NRC on September 16, 2014. The final rule for the design certification was published on October 15, 2014 (79 FR 61943).

Dated at Rockville, Maryland, this 22nd day of January 2015.
For the Nuclear Regulatory Commission.
Frank Akstulewicz,
Director, Division of New Reactor Licensing, Office of New Reactors.

[FR Doc. 2015-01713 Filed 1-28-15; 8:45 am]

BILLING CODE 7590-01-P